DEPARTMENT OF ENERGY

Federal Energy Regulatory Commission

Notice of Temporary License Amendment and Soliciting Comments, Motions To Intervene, and Protests

September 6, 2002.

Take notice that the following application has been filed with the Commission and is available for public inspection:

a. Application Type: Request for temporary license amendment to deviate from: (1) The High Rock reservoir and Badin Lake drawdown schedule; and (2) the obligation beginning March 6, 2003 to refill High Rock Reservoir to within five feet of full pool by May 15, 2003.

b. Project No.: 2197-056.

c. Date Filed: August 29, 2002.

d. Applicant: Alcoa Power Generating Inc.

e. Name of Project: Yadkin River.

f. Location: The project is located on the Yadkin/Pee Dee River, in Montgomery, Stanley, Davidson, Rowan, and Davie Counties, North Carolina.

g. Filed Pursuant to: Federal Power Act, 16 U.S.C. 791(a)-825(r) and sections 799 and 801.

h. Applicant Contact: Julian Polk, Alcoa Power Generating Inc., 293 NC 740 Highway, PO Box 576, Badin, NC 28009-0576, (704) 422-5617.

i. FERC Contact: Any questions on this notice should be addressed to Mr. T.J. LoVullo at (202) 502-8900, or e-mail address: thomas.lovullo@ferc.gov.

j. Deadline for filing comments and or motions: October 7, 2002.

All documents (original and eight copies) should be filed with: Ms. Magalie R. Salas, Secretary, Federal Energy Regulatory Commission, 888 First Street, NE., Washington, DC 20426. Please include the project number (P-2197) on any comments or motions filed.

k. Description of Request: As the result of collaborative efforts between Alcoa Power Generating Inc. (APGI), Carolina Power and Light (CP&L), the North Carolina Department of the Environment and Natural Resources, the South Carolina Department of Natural Resources, and the South Carolina Department of Health and Environmental Control, the licensee filed a request for an emergency temporary amendment to its license requirements. The purpose of this emergency amendment request is to adopt special management practices for the Yadkin Project to respond to the public health and safety concerns that have arisen as a result of the extraordinary drought in the Yadkin/Pee Dee basin. The new, temporary operating protocol, developed by the above parties and filed by APGI with the Commission, proposes to coordinate the operation of the Yadkin Project with CP&L's Yadkin/Pee Dee River Project (collectively, the licensees) to discharge a target volume of 900 cubic feet per second of water for downstream water uses. APGI proposes to implement the protocol which calls for, in part, to coordinate operation with CP&L to proportionally draw down the licensees' reservoirs in order to minimize drought impacts and equalize the burden on people, fish, and wildlife dependent upon the reservoirs.

The operating guides for the Yadkin Project require specific reservoir levels as well as refilling requirements in the spring. In order to meet the downstream water needs, APGI requested an emergency temporary license variance of the reservoir elevation requirements and the requirement to refill High Rock reservoir to within five feet of full by May 15, 2003 in the event that adherence to the newly developed protocol prevents the licensee from being able to achieve the refill.

Based on the need to respond to the public health and safety concerns that have arisen as a result of the extraordinary drought in the Yadkin/Pee Dee basin, APGI's request for variances to its operational requirements, as identified in its August 29, 2002 filing, may be implemented while the Commission completes its review of APGI's request.

l. Location of the Application: A copy of the application is available for inspection and reproduction at the Commission's Public Reference Room, located at 888 First Street, NE., Room 2A, Washington, DC 20426, or by calling (202) 502-8371. This filing may also be viewed on the web at http://www.ferc.gov using the “FERRIS” link, select “General Search” and enter “P-2197” in the “Docket Number” box to access the document. For assistance call 202-502-8222 or for TTY, (202) 208-1659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. 02-23209 Filed 9-11-02; 8:45 am]

BILLING CODE 6717-01-P